DEPARTMENT OF HEALTH AND HUMAN SERVICES

Centers for Disease Control and Prevention

[30Day-23-23CU]

Agency Forms Undergoing Paperwork Reduction Act Review

In accordance with the Paperwork Reduction Act of 1995, the Centers for Disease Control and Prevention (CDC) has submitted the information collection request titled “Advancing Violence Epidemiology in Real-Time (AVERT)” to the Office of Management and Budget (OMB) for review and approval. CDC previously published a “Proposed Data Collection Submitted for Public Comment and Recommendations” notice on 3/24/2023 to obtain comments from the public and affected agencies. CDC received one non-substantive comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Advancing Violence Epidemiology in Real-Time (AVERT)—NEW—National Center for Injury Prevention and Control (NCIPC), Centers for Disease Control and Prevention (CDC).

Background and Brief Description

In FY2020, CDC funded the Firearm Injury Surveillance Through Emergency Rooms (FASTER) initiative, which provided funding for 10 U.S. jurisdictions to share firearm injury-related emergency department (ED) visit data with CDC. As firearm injuries increased significantly in recent years and contribute to billions of dollars in medical and lost productivity costs every year, the FASTER initiative was funded to improve the availability and timeliness of nonfatal firearm injury data. As the 3-year FASTER initiative was implemented, the utility of syndromic surveillance data for monitoring other forms of nonfatal violence and mental health conditions (which may increase risk for or be a negative outcome associated with violence victimization) became clear. Timely state- and local-level data on ED visits for firearm injuries, other nonfatal injuries (e.g., intimate partner violence, sexual violence, child abuse and neglect), and mental health conditions are currently limited; thus, the collection of near real-time data on ED visits for these conditions at the state- and local-level could improve the ability to identify, respond to, and prevent violence. These data can also be used to identify, track, and address disparities in ED visits for firearm injuries, other violence-related injuries, and mental health conditions.

The Advancing Violence Epidemiology in Real Time (AVERT) initiative, funded by CDC in FY2023, intends to integrate, expand, and enhance previous data sharing efforts with public health departments initiated under the FASTER program. The goal of AVERT is to build on the FASTER program and provide funding to a minimum of 10 jurisdictions to share timely ED data for all firearm injuries (regardless of intent), other violence-related injuries, and mental health conditions. AVERT will support states to conduct routine monitoring of electronic health record data via syndromic surveillance to identify ED visits related to these conditions, as well as to analyze these data in a timely manner and share these data with CDC. To do this, AVERT will leverage ED syndromic surveillance data already routinely collected by state health departments and the District of Columbia health department through CDC's National Syndromic Surveillance Program (NSSP), which receives near real-time ED data from health departments. Descriptive analyses, such as frequencies and changes in the rate of ED visits involving a firearm injury, other violence-related injury, or mental health condition by region, state, and local jurisdiction, will be conducted. Longitudinal statistical analyses will be used to describe trends.

Understanding the full extent of the problem of firearm violence, other forms of nonfatal violence, and mental health conditions treated in EDs is crucial to informing prevention and response strategies and reducing future incidents.

CDC requests OMB approval for an estimated 30 annual burden hours. There are no costs to respondents other than their time.

Estimated Annualized Burden Hours
Type of respondent | Form name | Number of respondents | Total number of responses per respondent | Average burden per response (hours)
Participating health departments sharing case-level ED data with CDC | Emergency Department Form (ED Violence Data Form) | 10 | 6 | 30/60

Jeffrey M. Zirger,
Lead, Information Collection Review Office, Office of Public Health Ethics and Regulations, Office of Science, Centers for Disease Control and Prevention.

[FR Doc. 2023-17378 Filed 8-11-23; 8:45 am]

BILLING CODE 4163-18-P